DEPARTMENT OF COMMERCE

National Oceanic and Atmospheric Administration

RIN 0648-XC406

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a meeting of the Reef Fish Committee meeting.

DATES: The meeting will convene at 1:30 p.m. on Monday, January 7 and conclude by 5 p.m. on Tuesday, January 8, 2013.

ADDRESSES: The meeting will be held at the Hilton Tampa Airport Westshore Hotel located at 2225 North Lois Avenue, Tampa, FL 33607, 813-877-6688.

Council address: Gulf of Mexico Fishery Management Council, 2203 N. Lois Avenue, Suite 1100, Tampa, Florida 33607.

FOR FURTHER INFORMATION CONTACT: Mr. Steven Atran, Population Dynamics Statistician and Dr. Carrie Simmons, Deputy Executive Director; Gulf of Mexico Fishery Management Council; telephone: 813-348-1630.

SUPPLEMENTARY INFORMATION: The Reef Fish Committee will review several items related to management of red snapper. The Committee will review an analysis by the Scientific and Statistical Committee (SSC) of an estimated 1.6 million pound overharvest of red snapper in 2012, and its recommendation for an 8.46 million pound acceptable biological catch in 2013. This is an increase of 0.38 million pounds over the 2012 ABC. The Committee will also review an analysis on season length of a possible reduction in the recreational red snapper bag limit from 2 to 1 fish per person per day. Based on these analyses, the Committee will review a draft framework action to adjust the red snapper commercial and recreational quotas and the recreational bag limit, and will recommend preferred alternatives for consideration by the full Council. The Committee will also discuss the red snapper allocations, a 5-year review of the red snapper individual fishing quota (IFQ) program, and a scoping document on red snapper regional management issues. The agenda also includes an item for an open discussion of red snapper management issues. The recommendations of the Committee will be presented to the full Council at its February 5-8, 2013 meeting in Mobile, Alabama.

Copies of the agenda and other related materials can be obtained by calling 813-348-1630 or can be downloaded from the Council's ftp site, ftp.gulfcouncil.org.

Although other non-emergency issues not on the agenda may come before the Committee for discussion, in accordance with the Magnuson-Stevens Fishery Conservation and Management Act, those issues may not be the subject of formal action during this meeting. Actions of the Committee will be restricted to those issues specifically identified in the agenda and any issues arising after publication of this notice that require emergency action under section 305(c) of the Magnuson-Stevens Fishery Conservation and Management Act, provided the public has been notified of the Council's intent to take action to address the emergency.

These meetings are physically accessible to people with disabilities. Requests for sign language interpretation or other auxiliary aids should be directed to Kathy Pereira at the Council (see ADDRESSES) at least five working days prior to the meeting.

Dated: December 17, 2012.
Tracey L. Thompson,
Acting Deputy Director, Office of Sustainable Fisheries, National Marine Fisheries Service.

[FR Doc. 2012-30664 Filed 12-19-12; 8:45 am]

BILLING CODE 3510-22-P